DEPARTMENT OF THE TREASURY

Financial Management Service; Privacy Act of 1974; Computer Matching Programs

AGENCY: Financial Management Service, Treasury.

ACTION: Notice.

SUMMARY: Pursuant to 5 U.S.C. 552a, the Privacy Act of 1974, as amended, and the Office of Management and Budget (OMB) Guidelines on the Conduct of Matching Programs, notice is hereby given of the conduct by Financial Management Service (FMS) of matching programs.

EFFECTIVE DATE: October 23, 2002.

ADDRESSES: Comments or inquiries may be submitted to the Debt Management Services, Financial Management Service, 401 14th Street, SW., Room 448B, Washington, DC 20227.

FOR FURTHER INFORMATION CONTACT: Gerry Isenberg, Financial Program Specialist, Debt Management Services, (202) 874-6660.

SUPPLEMENTARY INFORMATION: FMS is the lead agency in the Federal Government for administrative debt collection, and collects delinquent non-tax debts owed to the Federal Government and delinquent debts owed to States, including past-due child support obligations being enforced by States. One of the key debt collection tools used by FMS is administrative offset. As amended by the Debt Collection Improvement Act of 1996 (DCIA), Pub. L. No. 104-134 (Apr. 26, 1996), 31 U.S.C. 3716 requires Federal disbursing officials to offset payments to collect delinquent debts submitted to FMS by Federal agencies for collection by offset. This process is known as “centralized administrative offset” or “centralized offset.” In addition, 31 U.S.C. 3716 authorizes the use of centralized offset to collect delinquent debts owed to States. Federal and state agencies submit delinquent debtor information to FMS, and FMS maintains information about individuals in a “system of records” for debt collection entitled “Debt Collection Operations System,” identified as Treasury/FMS .014.

To implement the centralized offset provisions of the DCIA, FMS matches records concerning federal payments with its debt collection records. To date, FMS has concentrated its efforts on offsetting Treasury-disbursed payments made by FMS. For this purpose, a comprehensive notice of computer matches was published in the Federal Register on August 28, 1997, Volume 62 at page 45699 concerning records contained in FMS' payment systems of records (Payment Issue Records for Regular Recurring Benefit Payments (Treasury/FMS .002) and Payment Records for Other than Regular Recurring Benefit Payments (Treasury/FMS .016)) with records contained in the FMS' Debt Collection Operations System.

FMS is working with other Federal agencies authorized to disburse Federal payments, known as Non-Treasury Disbursing Officials (NTDOs), to implement centralized offset of payments disbursed by Federal agencies other than FMS. This notice concerns the computer matching programs used to facilitate administrative offset involving records from FMS' “Debt Collection Operations System” and records from the following systems maintained by NTDOs:

United States Postal Service: Finance Records-Payroll System, (USPS 050.020)

United States Postal Service: Finance Records-Accounts Payable Files, (USPS 050.060)

The DCIA provides authority for Treasury to waive subsections (o) and (p) of 5 U.S.C. 552a (relating to computer matching agreements and post-offset notification and verification) upon written certification by the head of a State or an executive, judicial, or legislative agency seeking to collect the claim that the requirements of subsection (a) of 31 U.S.C. 3716 have been met. Treasury has exercised its authority to waive the aforementioned requirements, and the waiver will be in effect prior to the commencement of the computer matching program(s) identified in this notice. Interested parties may obtain documentation concerning the waiver from the contact listed above.

Name of Source Agency:

United States Postal Service.

Name of Recipient Agency:

Financial Management Service.

Beginning and Completion Dates:

These programs of computer matches will commence not earlier than the thirtieth day after this notice appears in the Federal Register. The matching will continue indefinitely, or until the waiver from the requirements of 5 U.S.C. 552a(o) and (p) is revoked.

Purpose:

The purpose of these programs of computer matches is to identify payments made to individuals who owe delinquent debts to the Federal Government or to State Governments, as well as individuals who owe past-due support being collected by State Governments, which will be collected by offset pursuant to 31 U.S.C. 3716, and to offset such payments where appropriate to satisfy those debts.

Authority:

Authority for these programs of computer matches is granted under 31 U.S.C. 3716.

Categories of Individuals Covered:

Individuals receiving payments from the Federal Government which are disbursed by the United States Postal Service; and individuals who owe debts to the United States and/or a State Government, or who owe past-due support being enforced by a State Government, and whose debts may be collected by offset in accordance with 31 U.S.C. 3716.

Categories of Records Covered:

Included in these programs of computer matches is information concerning the debtor contained in the Debt Collection Operations System (Treasury/FMS .014) including name, taxpayer identification number, the amount of the indebtedness, the name and address of the State or Federal agency who is principally responsible for collecting the debt, and the name, phone number and address of a State or agency contact. Information contained in the following systems: United States Postal Service: Finance Records-Payroll System (USPS 050.020), United States Postal Service: Finance Records-Accounts Payable Files (USPS 050.060), which shall be included in these programs of computer matches, shall include name, taxpayer identification number, mailing address, and the amount and type of payment.

Dated: September 16, 2002.
W. Earl Wright, Jr.,
Chief Management and Administrative Programs Officer.

[FR Doc. 02-24023 Filed 9-20-02; 8:45 am]

BILLING CODE 4810-35-P